ENVIRONMENTAL PROTECTION AGENCY

[FRL-6891-5]

Agency Information Collection Activities: Submission for OMB Review; Comment Request; Federal Operating Permit Rules

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: Part 71 Federal Operating Permit Rules, OMB Control Number 2060-0336, expiration date October 31, 2000. The ICR describes the nature of the information collection and its expected burden and cost; where appropriate, it includes the actual data collection instrument.

DATES: Comments must be submitted on or before November 24, 2000.

ADDRESSES: Send comments, referencing EPA ICR No. 1713.04 and OMB Control No. 2060-0336, to the following addresses: Sandy Farmer, U.S. Environmental Protection Agency, Collection Strategies Division (Mail Code 2822), 1200 Pennsylvania Avenue, NW., Washington, DC 20460; and to Office of Information and Regulatory Affairs, Office of Management and Budget (OMB), Attention: Desk Officer for EPA, 725 17th Street, NW., Washington, DC 20503.

FOR FURTHER INFORMATION CONTACT: For a copy of the ICR contact Sandy Farmer at EPA by phone at (202) 260-2740, by e-mail at Farmer.sandy@epamail.epa.gov, or download off the Internet at http://www.epa.gov/icr and refer to EPA ICR No. 1713.04. For technical questions about the ICR contact Scott Voorhees at (919) 541-5348 or by e-mail at voorhees.scott@epa.gov.

SUPPLEMENTARY INFORMATION: Title: Part 71 Federal Operating Permit Rules (OMB Control No. 2060-0336; EPA ICR No. 1713.04) expiring October 31, 2000. This is a request for extension of a currently approved collection.

Abstract: The part 71 program is a Federal operating permits program that will be implemented for sources located in Indian Country, Outer Continental Shelf sources, and also in those areas without acceptable part 70 programs. Title V of the Clean Air Act imposes on States the duty to develop, administer and enforce operating permit programs which comply with title V and requires EPA to stand ready to issue Federal operating permits when States fail to perform this duty.

Pursuant to regulations promulgated by EPA on February 19, 1999 (64 FR 8247) EPA has authority to establish part 71 programs within Indian Country and EPA began administering the program in Indian country on March 22, 1999. Since many Indian tribes lack the resources and capacity to develop operating permit programs, EPA will administer and enforce part 71 programs in the areas that comprise Indian Country in order to protect the air quality of areas under tribal jurisdiction.

The EPA will also issue permits to “outer continental shelf” (OCS) sources (sources located in offshore waters of the United States) pursuant to the requirements of section 328(a) of the Act. The EPA will also establish a part 71 program for a State when interim approval of a State program expires, if corrective program provisions have not been adopted and submitted to EPA in time for full approval. Since the suspension of the Federal program requirement runs out with the expiration of interim approval, the requirement that EPA promulgate a Federal program is effective immediately upon that expiration.

The EPA has the authority to establish a partial part 71 program in limited geographical areas of a state if EPA has approved a part 70 program (or combination of part 70 programs) for the remaining areas of the State. The EPA will promulgate a part 71 program for a permitting authority if EPA finds that a permitting authority is not adequately administering or enforcing its approved program and it fails to correct the deficiencies that precipitated EPA's finding.

An agency may not conduct or sponsor, and a person is not required to respond to, a collection of information unless it displays a currently valid OMB control number. The OMB control numbers for EPA's regulations are listed in 40 CFR part 9 and 48 CFR Chapter 15. The Federal Register document required under 5 CFR 1320.8(d), soliciting comments on this collection of information was published on May 1, 2000 (65 FR 25322); no comments were received.

Burden Statement: The annual public reporting and record keeping burden for this collection of information is estimated to average 4.8 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Major air pollution sources subject to part 71 programs.

Estimated Number of Respondents: 95.

Frequency of Response: Semi-annually, annually, and on occasion.

Estimated Total Annual Hour Burden: 15,323 hours.

Estimated Total Annualized Capital, O&M Cost Burden: $0.

Send comments on the Agency's need for this information, the accuracy of the provided burden estimates, and any suggested methods for minimizing respondent burden, including through the use of automated collection techniques to the addresses listed above. Please refer to EPA ICR No. 1713.04 and OMB Control No. 2060-0336 in any correspondence.

Dated: October 18, 2000.
Oscar Morales,
Director, Collection Strategies Division.

[FR Doc. 00-27403 Filed 10-24-00; 8:45 am]

BILLING CODE 6560-50-P